ENVIRONMENTAL PROTECTION AGENCY

[EPA-HQ-OAR-2015-0207; FRL-9925-09-OAR]

Proposed Information Collection Request; Comment Request; Cellulosic Production Volume Projections and Efficient Producer Reporting

AGENCY: Environmental Protection Agency (EPA).

ACTION: Notice.

SUMMARY: The Environmental Protection Agency (EPA) is planning to submit an information collection request (ICR), “Cellulosic Production Volume Projections and Efficient Producer Reporting” (EPA ICR No. 2517.01, OMB Control No. 2060-NEW) to the Office of Management and Budget (OMB) for review and approval in accordance with the Paperwork Reduction Act (44 U.S.C. 3501 et seq.). Before doing so, EPA is soliciting public comments on specific aspects of the proposed information collection as described below. This is a request for approval of a new collection. An Agency may not conduct or sponsor and a person is not required to respond to a collection of information unless it displays a currently valid OMB control number.

DATES: Comments must be submitted on or before May 26, 2015.

ADDRESSES: Submit your comments, referencing Docket ID No. EPA-HQ-OAR-2015-0207, online using www.regulations.gov (our preferred method), by email to a-and-r-docket@epa.gov, Attention Air and Radiation Docket ID No. EPA-HQ-OAR-2015-0207, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Jon Monger, Policy Advisor, Office of Transportation and Air Quality, Mail Code: 6401A, Environmental Protection Agency, 1200 Pennsylvania Ave. NW., Washington, DC 20460; telephone number: 202-564-0628; fax number: 202-564-1177; email address: monger.jon@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA is seeking to collect information from potential cellulosic biofuel producers to aid in determining the annual volume standards. This ICR includes a questionnaire form to facilitate the collection of this information. EPA would also like to use a data form to collect information from certain ethanol producers and importers who have requested and been approved to use an “efficient producer” pathway. This data form would standardize collection of selected data points and allow better and more efficient compliance with the RFS program. We inform respondents that they may assert claims of business confidentiality (CBI) for information they submit in accordance with 40 CFR 2.203.

Forms: RFS Efficient Producer Data Form, RFS Cellulosic Biofuel Producer Questionnaire Form.

Respondents/affected entities: Producers, Importers of Renewable Fuels.

Respondent's obligation to respond: RFS Cellulosic Biofuel Producer Questionnaire Form is voluntary; RFS Efficient Producer Data Form is mandatory pursuant to Sections 114 and 208 of the Clean Air Act (CAA), 42 U.S.C. 7414 and 7542.

Estimated number of respondents: 80 (total).

Frequency of response: Annually (RFS Cellulosic Biofuel Producer Questionnaire Form) or quarterly (RFS Efficient Producer Data Form).

Total estimated burden: 560 hours (per year). Burden is defined at 5 CFR 1320.03(b).

Total estimated cost: $63,840 (per year).

Changes in estimates: There is no previous ICR for this collection.

Dated: March 17, 2015.
Karl Simon,
Director, Transportation and Climate Division, Office of Transportation and Air Quality.

[FR Doc. 2015-06770 Filed 3-23-15; 8:45 am]

BILLING CODE 6560-50-P